LIBRARY OF CONGRESS

Copyright Office

37 CFR Part 201

[Docket No. RM 2002-1A]

Notice and Recordkeeping for Use of Sound Recordings Under Statutory License

AGENCY: Copyright Office, Library of Congress.

ACTION: Announcement of public roundtable.

SUMMARY: The United States Copyright Office announces a public roundtable discussion concerning issues raised in the course of an ongoing rulemaking proceeding to adopt requirements for giving copyright owners reasonable notice of the use of their works for sound recordings under the section 114 and 112 statutory licenses and for how records of such use shall be kept and made available to copyright owners. This document invites participation in the roundtable intended to elicit more specific information on areas identified in this document which are related solely to the subjects identified in the ongoing rulemaking and not to any other issue that may be part of a different proceeding.

DATES: The roundtable discussion will be held on Friday, May 10, 2002, beginning at 9 a.m. and continuing until 5 p.m. at the address listed below. Requests to participate or to attend the roundtable discussion must be submitted by close of business on Monday May 6, 2002.

ADDRESSES: The roundtable discussion will take place in LM620 (Dining Room A), James Madison Memorial Building, First and Independence Avenue, SE, Washington DC. Requests to participate or attend must be made by e-mail to 114roundtable@loc.gov or by fax to (202) 252-3423. See SUPPLEMENTARY INFORMATION for other information regarding filing of the requests.

FOR FURTHER INFORMATION CONTACT: Questions about the meeting or the filing of such requests for participation or attendance should be addressed to either William J. Roberts Jr., or Susan N. Grimes at Telephone (202) 707-8380 or Telefax (202) 252-3423.

SUPPLEMENTARY INFORMATION:

Background

The Digital Millennium Copyright Act (“DMCA”), Pub. L. No. 105-304, 112 Stat. 2860 (1998), amended the statutory license in section 114 of the Copyright Act for the public performance of sound recordings via digital audio transmission, and established a new statutory license under section 112 of the Copyright Act for the making of ephemeral copies of sound recordings. The DMCA also directed the Copyright Office to establish regulations that require digital audio services eligible for the amended section 114 license and the new section 112 license to give copyright owners of sound recordings reasonable notice of the use of their works and to maintain records of use and make them available to copyright owners. See 17 U.S.C. 112(e)(4) and 114(f)(4)(A). On February 7, 2002, the Office published a Notice in the Federal Register proposing such regulations and sought public comment. Following publication of this notice, the Office extended the original comment period to April 5, 2002, and the reply period to April 26, 2002.

Roundtable Discussion

The Copyright Office has reviewed the comments received to this point and is aware that the proposed notice and recordkeeping provisions are contentious. It is our desire to adopt regulations that provide sufficient notification and information to copyright owners of the use of their sound recordings yet are not unduly burdensome on those making use of the statutory licenses. To promote the adoption of such regulations, the Office is holding a public roundtable discussion on May 10, 2002, to discuss the proposed regulations and the comments we have received. Those interested in participating in the roundtable must notify the Office in a written request sent by fax or e-mail to the addresses given above and this request must contain the following elements: (1) The name of the person desiring to participate, (2) the organization or organizations represented by that person, if any: (3) contact information (address, telephone, fax, and e-mail); and (4) information on the specific focus or intent of the participant (or his or her organization) and any questions or issues the participant would like to raise. Submission of such requests by regular mail will not be effective. While registration in a public forum would not otherwise be required, seating is limited and will be available first to persons who have submitted requests to participate or attend. Remaining seats will be available on a first-come, first-served basis. As discussed earlier, the Office is in the middle of an ongoing rulemaking proceeding and has already received initial comments; it will receive reply comments on April 26, 2002. No written comment is required as a prerequisite to participation. What is required is a request for participation that contains identified information. Persons desiring merely to attend but not actively participate in the discussions should so indicate in the request and need not give any information on questions or issues.

The Copyright Office encourages participation by all those affected by the proposed regulations. The Office is especially interested in the views of small businesses engaged in webcasting as well as individuals and small businesses who are copyright owners of sound recordings, and in details relating to the benefits, costs and burdens associated with the published notice and recordkeeping proposal and of alternatives to that proposal. The Office encourages those who would like to participate to review the comments already submitted in this proceeding. Those comments may be found on our website at http://www.loc.gov/copyright/carp/114/comments.html. The Office also encourages those with common interests and views to select one spokesperson.

Dated: April 11, 2002.
Marilyn J. Kretsinger,
Assistant General Counsel.

[FR Doc. 02-9207 Filed 4-12-02; 8:45 am]

BILLING CODE 1410-30-P